DEPARTMENT OF COMMERCE

National Oceanic and Atmospheric Administration

50 CFR Parts 600 and 635

RIN 0648-XB121

Atlantic Highly Migratory Species; 2006 Consolidated Highly Migratory Species Fishery Management Plan; Amendment 4

AGENCY: National Marine Fisheries Service (NMFS), National Oceanic and Atmospheric Administration (NOAA), Commerce.

ACTION: Notice of public hearings.

SUMMARY: On March 16, 2012, NMFS published a proposed rule for a fishery management plan (FMP) amendment modifying the regulations governing the Federal small-scale HMS fisheries in the U.S. Caribbean, and announced that public hearings would be scheduled in a future notice. In this notice, NMFS is announcing public hearings in St. Croix, United States Virgin Islands (USVI) St. Thomas, USVI, San Juan, Puerto Rico (PR), Ponce, PR, and Mayaguez, PR, in order to provide greater opportunity for public comment on the proposed rule. Public comments on the proposed rule must be received on or before June 14, 2012.

DATES: Public hearings for Amendment 4 to the 2006 Consolidated Highly Migratory Species (HMS) Fishery Management Plan (FMP) will be held from April through May 2012. See SUPPLEMENTARY INFORMATION for meeting dates, times, and locations.

ADDRESSES: As published on March 16, 2012 (77 FR 15701), written comments on this action may be submitted, identified by NOAA-NMFS-2012-0053, by any one of the following methods:

• Electronic submissions: Submit all electronic public comments via the Federal e-Rulemaking Portal: http://www.regulations.gov. To submit comments via the e-Rulemaking Portal, first click the “submit a comment” icon, then enter NOAA-NMFS-2012-0053 in the keyword search. Locate the document you wish to comment on from the resulting list and click on the “Submit a Comment” icon on the right of that line.

• Mail: Submit written comments to Margo Schulze-Haugen, 1315 East-West Highway, Silver Spring, MD 20910.

• Fax: 301-713-1917; Attn: Margo Schulze-Haugen.

Instructions: All comments received are part of the public record and generally will be posted to portal http://www.regulations.gov without change. All personal identifying information (for example, name, address, etc.) voluntarily submitted by the commenter may be publicly accessible. Do not submit confidential business information or otherwise sensitive or protected information. NMFS will accept anonymous comments (enter “N/A” in the required fields if you wish to remain anonymous). Attachments to electronic comments will be accepted in Microsoft Word or Excel, WordPerfect, or Adobe PDF file formats only.

Supporting documents, including the 2012 Environmental Assessment, Regulatory Impact Review, and Final Regulatory Flexibility Analysis, as well as others, such as the Highly Migratory Species Fishery Management Plans may be downloaded from the HMS Web site at www.nmfs.noaa.gov/sfa/hms/. These documents also are available by calling Greg Fairclough or Randy Blankinship at 727-824-5399.

FOR FURTHER INFORMATION CONTACT: Greg Fairclough or Randy Blankinship at 727-824-5399.

SUPPLEMENTARY INFORMATION: Atlantic tunas and swordfish are managed under the dual authority of the Magnuson-Stevens Fishery Conservation and Management Act (Magnuson-Stevens Act) and the Atlantic Tuna Conventions Act (ATCA), which authorizes the Secretary of Commerce (Secretary) to promulgate regulations as may be necessary and appropriate to implement recommendations of ICCAT. Federal Atlantic shark fisheries are managed under the authority of the Magnuson-Stevens Act. The authority to issue regulations under the Magnuson-Stevens Act and ATCA has been delegated from the Secretary to the Assistant Administrator for Fisheries, NOAA (AA). On May 28, 1999, NMFS published in the Federal Register (64 FR 29090) final regulations, effective July 1, 1999, implementing the Fishery Management Plan for Atlantic Tunas, Swordfish, and Sharks (1999 FMP). On October 2, 2006, NMFS published in the Federal Register (71 FR 58058) final regulations, effective November 1, 2006, implementing the 2006 Consolidated HMS FMP, which details the management measures for Atlantic HMS fisheries, including the HMS handgear fishery.

In a proposed rule published on March 16, 2012 (77 FR 15701), NMFS indicated that dates and locations for public hearings on the proposed action would be published in the Federal Register at a later date. In this notice, NMFS announces that it will hold six public hearings (see Table 1 for meeting dates, times, and locations). These hearings, in addition to written comment collected via the methods described above, will allow NMFS to collect public comments on the proposed rule, which will assist NMFS in determining the final action for Amendment 4 to the 2006 Consolidated HMS FMP, consistent with the Magnuson-Stevens Act, ATCA, and other applicable laws.

Table 1—Dates, Times, and Locations of Six Public Hearings
Date | Time | Meeting locations | Address
April 10, 2012 | 6-9 p.m | Buccaneer Hotel | 5007 Estate Shoys, Christiansted, VI 00820.
April 11, 2012 | 8 a.m | Buccaneer Hotel | 5007 Estate Shoys, Christiansted, VI 00820.
April 12, 2012 | 6-9 p.m | Frenchman's Reef Marriot | Frenchman's Reef Marriott 5 Estate Bakkeroe, St. Thomas, USVI 00801.
May 8, 2012 | 3-5 p.m | Ateneo Puertorriqueno | Biblioteca del Ateneo Puertorriqueno, Avenida Constitucion, Parada 2, Viejo San Juan, San Juan PR 00901.
May 9, 2012 | 2-5 p.m | Servicio de Extension Agricola | 2440 Avenida Las Americas, Ste. 208, Centro Gubernamental, Ponce, PR 00717-2111.
May 10, 2012 | 6-9 p.m | Universidad de Puerto Rico | University of Puerto Rico, Mayaguez Campus, Physics Building, Room 310, Mayaguez, PR 00680.

Authority: 16 U.S.C. 1801 et seq.

Dated: March 27, 2012.
Emily H. Menashes,
Acting Director, Office of Sustainable Fisheries, National Marine Fisheries Service.

[FR Doc. 2012-7713 Filed 3-27-12; 4:15 pm]

BILLING CODE 3510-22-P